DEPARTMENT OF THE INTERIOR

Bureau of Land Management

[LLIDT03000-L14300000.EU0000; IDI-35577]

Notice of Realty Action; Direct Sale of Public Land in Jerome County, ID

AGENCY: Bureau of Land Management, Interior.

ACTION: Notice of Realty Action.

SUMMARY: To resolve an unintentional trespass, a parcel of public land totaling 7.45 acres in Jerome County, Idaho, is being considered for direct (non-competitive) sale to Todd and Bridget Buschhorn under the provisions of the Federal Land Policy and Management Act of 1976 (FLPMA), at no less than the appraised fair market value.

DATES: In order to ensure consideration in the environmental analysis of the proposed sale, comments must be received by June 14, 2010.

ADDRESSES: Address all comments concerning this Notice to Field Manager, Bureau of Land Management (BLM), Shoshone Field Office, 400 West F Street, Shoshone, Idaho 83352.

FOR FURTHER INFORMATION CONTACT: Lisa Claxton, Natural Resource Specialist, at the above address or phone (208) 732-7272.

SUPPLEMENTARY INFORMATION: The following described public land in Jerome County, Idaho, is being considered for sale under the authority of Section 203 of FLPMA (43 U.S.C. 1713):

Boise Meridian

T. 10 S., R. 19 E.,

Sec. 25, lot 10.

The area described contains 7.45 acres in Jerome County, Idaho.

The 1985 BLM Monument Resource Management Plan, as amended by the 2003 Amendments to BLM Shoshone Field Office Land Use Plans for Land Tenure Adjustment and Areas of Critical Environmental Concern, identifies this parcel of public land as suitable for disposal. Conveyance of the identified public land will be subject to valid existing rights and encumbrances of record, including but not limited to rights-of-way for roads and public utilities. Conveyance of any mineral interests pursuant to Section 209 of FLPMA will be analyzed during processing of the proposed sale. On April 29, 2010, the above-described land will be segregated from appropriation under the public land laws, including the mining laws, except the sale provisions of FLPMA. Until completion of the sale, the BLM is no longer accepting land use applications affecting the identified public land, except applications for the amendment of previously-filed right-of-way applications or existing authorizations to increase the term of the grants in accordance with 43 CFR 2807.15 and 2886.15. The segregative effect will terminate upon issuance of a patent, publication in the Federal Register of a termination of the segregation, or April 30, 2012, unless extended by the BLM State Director in accordance with 43 CFR 2711.1-2(d) prior to the termination date.

Public Comments

For a period until June 14, 2010, interested parties and the general public may submit in writing any comments concerning the land being considered for sale, including notification of any encumbrances or other claims relating to the identified land, to Field Manager, BLM Shoshone Field Office, at the above address. In order to ensure consideration in the environmental analysis of the proposed sale, comments must be in writing and postmarked or delivered by June 14, 2010. Comments transmitted via e-mail will not be accepted. Comments, including names and street addresses of respondents, will be available for public review at the BLM Shoshone Field Office during regular business hours, except Federal holidays. Before including your address, phone number, e-mail address, or other personal identifying information in your comment, be advised that your entire comment—including your personal identifying information—may be made publicly available at any time. While you can ask us in your comment to withhold from public review your personal identifying information, we cannot guarantee that we will be able to do so.

Authority: 43 CFR 2711.1-2.

Ruth Miller,
Shoshone Field Manager.

[FR Doc. 2010-10008 Filed 4-28-10; 8:45 am]

BILLING CODE 4310-GG-P